DEPARTMENT OF TRANSPORTATION

Surface Transportation Board

[Docket No. AB 991X]

Yellowstone Valley Railroad, L.L.C.—Discontinuance of Service Exemption—in Dawson and Richland Counties, Mont.

Yellowstone Valley Railroad, L.L.C. (YVRR) ¹ has filed a verified notice of exemption under 49 CFR Part 1152 subpart F-Exempt Abandonments and Discontinuances of Service to discontinue service over 37 miles of rail line owned by BNSF Railway Company, between milepost 6.0 near Glendive and milepost 43.0 at Crane, in Dawson and Richland Counties, Mont.² The line traverses United States Postal Service Zip Codes 59217, 59262 and 59330.

¹ Applicant's name was formerly Yellowstone Valley Railroad, Inc. See Watco Holdings, Watco Companies, and Watco Transp. Services—Corporate Family Transaction, FD 35439 (STB served Nov. 4, 2010).

² The 37-mile segment is a portion of a 171.97 mile rail line that YVRR was authorized to lease and operate in Yellowstone Valley RR.—Lease & Op.—BNSF Ry. Co., FD 34737 (STB served Sept. 1, 2005).

YVRR has certified that: (1) No local traffic has moved over the line for at least 2 years; (2) any overhead traffic can be rerouted over other lines; ³ (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.12 (newspaper publication) and 49 CFR 1152.50(d)(1) (notice to governmental agencies) have been met.⁴

³ While overhead traffic can be rerouted, applicant states that BNSF intends to route certain BNSF overhead traffic over the line after YVRR discontinues its operations and BNSF becomes the operator.

⁴ Because this is a discontinuance proceeding and not an abandonment, the proceeding is exempt from the requirements of 49 CFR 1105.7 (environmental reports), 49 CFR 1105.8 (historic reports), and 49 CFR 1105.11 (transmittal letter).

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will become effective on July 28, 2011, unless stayed pending reconsideration. Petitions to stay that do not involve environmental issues and formal expressions of intent to file an OFA for continued rail service under 49 CFR 1152.27(c)(2),⁵ must be filed by July 8, 2011.⁶ Petitions to reopen must be filed by July 18, 2011, with the Surface Transportation Board, 395 E Street, SW., Washington, DC 20423-0001.

⁵ Each OFA must be accompanied by the filing fee, which is currently set at $1,500. See 49 CFR 1002.2(f)(25).

⁶ Because this is a discontinuance proceeding and not an abandonment, trail use/rail banking and public use conditions are not appropriate.

A copy of any petition filed with the Board should be sent to YVRR's representative: Karl Morell, 655 Fifteenth St., NW., Suite 225, Washington, DC 20005.

If the verified notice contains false or misleading information, the exemption is void ab initio.

Board decisions and notices are available on our Web site at http://www.stb.dot.gov.

Decided: June 22, 2011.
By the Board.
Rachel D. Campbell,
Director, Office of Proceedings.
Andrea Pope-Matheson,
Clearance Clerk.

[FR Doc. 2011-16050 Filed 6-27-11; 8:45 am]

BILLING CODE 4915-01-P